DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of November, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicted that increased imports did not contribute importantly to worker separations at the firm.

TA-W-39,869; Cognis Corp/ Lock Haven, Castanea, PA

TA-W-39,979; Fort Atkinson Industries, Fort Atkinson, WI

TA-W-39,471; Besser Co., Alpena, MI

TA-W-39,880; Tuscarora Yarns, James C. Fry Plant, Kinston, NC

TA-W-39,724; L.E. Smith Glass Co., Mt. Pleasant, PA

TA-W-38,944; Crane Pumps and Systems, Piqua, OH

TA-W-39,882; JSJ Corp., Grand Haven South Plant, Grand Haven, MI

TA-W-39,312; Formtech Enterprises, Orwigsburg, PA

In the following cases, the investigation revealed that the criteria for eligibility have not been met for the reasons specified.

Increased imports did not contribute importantly to worker separations at the firm.

TA-W-39,579; Newell Window Furnishing, Inc./Kirsch, Waco, TX

TA-W-40,274; A.O. Smith Corp., Electrical Products Co., Owosso, MI

TA-W-39,950; Antec Network Plastics, a/k/a Arris, El Paso, TX

TA-W-40,121; Connelly North America, El Paso, TX

TA-W-40,052 & A; Emsar, Inc., Bridgeport, CT and Stratford, CT

TA-W-39,417; Innovex, Inc., Chandler, AZ

TA-W-39,414; Marshall and Williams Products, Inc., Providence, RI

TA-W-39,778; Coats North America, Thomasville, GA

TA-W-40,048; Three-Five Systems, Inc., Tempe, AZ

TA-W-39,849; Square D, Scheider Electric, Huntington, IN

The workers firm does not produce an article as required for certification under Section 222 of the Trade Act of 1974.

TA-W-39,382; Allied Vaughn, Clinton, TN

TA-W-39,693; Winkel Industries, Inc., Confield, OH

The investigation revealed that criteria (2) and (3) have not been met. Sales or production did not decline during the relevant period as required for certification. Increased imports did not contribute importantly to worker separations at the firm.

TA-W-39,878; Pennzoil/Quaker State Co., Shreveport Refinery, Shreveport, LA

Affirmative Determinations for Worker Adjustment Assistance

The following certifications have been issued; the date following the company name and location of each determination references the impact date for all workers of such determination.

TA-W-39,954 & A; Pulp and Paper of America, Berlin, NH and Gorham, NH: August 21, 2000.

TA-W-40,046; Parker Hannifim Corp., Integrated Hydraulics Div., Lincolnshire, IL: August 31, 2000.

TA-W-39,619; Converse, Inc., Charlotte, NC: June 25, 2000.

TA-W-39,616; United States Ceramic Tile Co., East Sparta, OH: June 24, 2000.

TA-W-39,401; Industrial Seaming Co., Inc., Granite Falls, NC: June 14, 2000.

TA-W-38,974; Randy Industries, Inc., New York, NY: March 26, 2000.

TA-W-39,536; Georgia-Pacific Corp., West, Bellingham, WA: June 15, 2000.

TA-W-39,613; Dutton Manufacturing, Laconia, NH: June 27, 2000.

TA-W-40,264; Winona Knitting Mills, Div. of Hampshire Designers, Inc., Winona, MN: April 15, 2001.

TA-W-39,359; G.E. Marquette Medical, d/b/a Corometrics, Wallingford, CT: May 15, 2001.

TA-W-39,695; PEC of America Corp., Santee, CA: July 11, 2000.

TA-W-39,473; Boston Scientific Corp., Watertown, MA: June 7, 2000.

TA-W-40,092; MICTEC, Inc., Canonsburg, PA: September 7, 2000.

TA-W-39,986; Lexington Fabrics, Inc., Geraldine, AL: August 22, 2000.

TA-W-39,177; Wand Tool Co., Inc., Wheeling, IL: April 5, 2000.

TA-W-39,389; Precision Marshall Steel Co., Washington, PA: May 12, 2000.

TA-W-39,963 & A; Thomasville Furniture Industries, Inc., West Jefferson Plant, West Jefferson, NC and Sawmills Plant, Hudson, NC: August 15, 2000.

TA-W-39,957 & A, B; Acushnet Rubber Co., Inc., Belleville Facility, New Bedford, MA, Riverside Facility, New Bedford, MA and Warehouse, New Bedford, MA: August 15, 2000.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for (NAFTA-TAA) issued during the month of November, 2001.

In order for an affirmative determination to be made and a certification of eligibility to apply for (NAFTA-TAA) the following group eligibility requirements of Section 250 of the Trade Act must be met:

(1) That a significant number of proportion of the workers in the worker's firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation to the decline in sales or production of such firm or subdivision or

(4) That there has been a shift in production by such workers' firm or subdivision to Mexico or Canada of articles like or directly competitive with articles which are produced by the firm or subdivision.

Negative Determinations (NAFTA-TAA)

In each of the following cases the investigation revealed that criteria (3) and (4) were not met. Imports from Canada or Mexico did not contribute importantly to workers' separations. There was no shift in production from the subject firm to Canada or Mexico during the relevant period.

NAFTA-TAA-04972; Besser Co., Alpena, MI

NAFTA-TAA-05382; Wilson Sporting Goods Co., Racquet Sports, Fountain Inn, SC

NAFTA-TAA-05445; Graphic Packaging Portland, OR

NAFTA-TAA-05289; JSJ Corp., Grand Haven South Plant, Grand Haven, MI

NAFTA-TAA-04793; Johnstown America Corp., Freight Car Div., Johnstown, PA

NAFTA-TAA-05257; J.T. Fennell Co., Inc., Chillicothe, IL

NAFTA-TAA-05249; Anvil International, Inc., Statesboro, GA

NAFTA-TAA-05210; Elastic Corporation of America, Inc., Hemingway, SC

NAFTA-TAA-05179; Pennzoil/Quaker State Co., Shreveport Refinery, Shreveport, LA

The workers firm does not produce an article as required for certification under section 250(a), Subchapter D, Chapter 2, Title II, of the trade Act of 1974, as amended.

NAFTA-TAA-04985; Winona, Inc., Nashville, IN

NAFTA-TAA-04942; Allied Vaughn, Clinton, TN

Affirmative Determinations NAFTA-TAA

NAFTA-TAA-05380; Joplin Manufacturing, Orica USA, Inc., Joplin, MO: September 26, 2000.

NAFTA-TAA-05489; Arvin Meritor, Fayette, AL: October 19, 2000.

NAFTA-TAA-04788; J and L Speciality Steel, Inc., Midland, PA: April 14, 2000.

NAFTA-TAA-05313; Bolivar Tees, Bolivar, MO: September 4, 2000.

NAFTA-TAA-05167; Coats North America, Thomasville, GA: July 18, 2000.

NAFTA-TAA-05356; Eaton Corp., Torque Control Products Div., Marshall, MI: September 18, 2000.

NAFTA-TAA-05012; Jaymar-Ruby, Inc., d/b/a Trans Apparel Group, Michigan City, IN: June 13, 2000.

NAFTA-TAA-05417 & A; FCI USA, Inc., Fremont, CA and Cypress, CA: October 8, 2000.

NAFTA-TAA-05283; W P Textile Processing Corp., Richmond, VA: September 4, 2000.

I hereby certify that the aforementioned determinations were issued during the month of November, 2001. Copies of these determinations are available for inspection in Room C-5311, U.S. Department of Labor, 200 Constitution Avenue, NW., Washington, DC 20210 during normal business hours or will be mailed to persons who write to the above address.

Dated: November 30, 2001.
Edward A. Tomchick,
Director, Division of Trade Adjustment Assistance.

[FR Doc. 01-31147 Filed 12-17-01; 8:45 am]

BILLING CODE 4510-30-M